SECURITIES AND EXCHANGE COMMISSION

Sunshine Act; Meeting

Federal Register Citation of Previous Announcement: [65 FR 15249, March 28, 2003].

Status: Closed Meeting.

Place: 450 Fifth Street, NW., Washington, DC.

Announcement of Additional Meeting: Additional Meeting.

An additional Closed Meeting will be held on Friday, April 4, 2003 at 10:30 a.m.

Commissioner Campos, as duty officer, determined that no earlier notice thereof was possible.

Commissioners, the Secretary to the Commission, and certain staff members who have an interest in the matter will attend the Closed Meeting.

The General Counsel of the Commission, or his designee, has certified that, in his opinion, one or more of the exemptions set forth in 5 U.S.C. 552b(c), (5), (7) and (10) and 17 CFR 200.402(a)(5), (7) and (10), permit consideration of the scheduled matters at the Closed Meetings.

The subject matter of the Closed Meeting will be: Formal Order of Investigation.

At times, changes in Commission priorities require alterations in the scheduling of meeting items. For further information and to ascertain what, if any, matters have been added, deleted or postponed, please contact:

The Office of the Secretary at (202) 942-7070.

Dated: April 2, 2003.
Jonathan G. Katz,
Secretary.

[FR Doc. 03-8508 Filed 4-3-03; 11:17 am]

BILLING CODE 8010-01-P